DEPARTMENT OF HOMELAND SECURITY

8 CFR Parts 215, 235 and 252

[DHS-2004-0002]

RIN 1650-AA00

United States Visitor and Immigrant Status Indicator Technology Program (“US-VISIT”); Authority To Collect Biometric Data From Additional Travelers and Expansion to the 50 Most Highly Trafficked Land Border Ports of Entry; Correction

AGENCY: Border and Transportation Security Directorate, DHS.

ACTION: Interim rule; correction.

SUMMARY: On August 31, 2004, the Department of Homeland Security (DHS) published an interim rule in the Federal Register at 69 FR 53318 expanding the United States Visitor and Immigrant Status Technology Program (US-VISIT) to the 50 most highly trafficked land border ports of entry in the United States. The interim rule also further defined the population of aliens who are required to provide biometric identifiers and other identifying information under the US-VISIT program. The interim rule contained a typographical error and identified an incorrect docket number. The correct docket number is DHS-2004-0002.

DATES: Effective date: The interim rule is effective September 30, 2004.

Comment date: Written comments must be submitted on or before November 1, 2004.

FOR FURTHER INFORMATION CONTACT: Michael Hardin, Senior Policy Advisor, US-VISIT, Border and Transportation Security, Department of Homeland Security, 1616 Fort Myer Drive, 18th Floor, Arlington, Virginia 22209, (202) 298-5200.

Dated: August 31, 2004.
Elizabeth L. Branch,
Associate General Counsel for Rules and Legislation, Office of the General Counsel, Department of Homeland Security.

[FR Doc. 04-20126 Filed 8-31-04; 1:10 pm]

BILLING CODE 4410-10-P